DEPARTMENT OF ENERGY

Federal Energy Regulatory Commission

[Project No. 372-008—California]

Southern California Edison; Notice of Availability of Final Environmental Assessment

June 20, 2002.

In accordance with the National Environmental Policy Act of 1969 and the Federal Energy Regulatory Commission's (Commission) regulations, 18 CFR part 380 (Order No. 486, 52 FR 47897), the Office of Energy Projects has reviewed the application for new license for the Lower Tule Hydroelectric Project, located on the Middle Fork of the Tule River in Tulare County, California, and has prepared a final Environmental Assessment (EA) for the project. The project is partially located within the Sequoia National Forest and the Giant Sequoia National Monument. In the final EA, the Commission's staff has analyzed the potential environmental impacts of the existing project and has concluded that approval of the project, with appropriate environmental protection measures, would not constitute a major federal action significantly affecting the quality of the human environment.

On January 15, 2002, the Commission staff issued a draft EA for the project, and requested that comments be filed with the Commission within 30 days. Comments were filed by four entities and are addressed in this final EA for this project.

Copies of the draft and final EA can be viewed at the Commission's Reference and Information Center, Room 2A, 888 First Street, NE, Washington, DC, 20426, or by calling 202-208-1371. Copies of the EA are on file with the Commission and are available for public inspection. The EA may also be viewed on the web at http://www.ferc.gov using the “RIMS” link, select “Docket#” and follow the instructions (call 202-208-2222 for assistance).

Linwood A. Watson, Jr.,
Deputy Secretary.

[FR Doc. 02-16110 Filed 6-25-02; 8:45 am]

BILLING CODE 6717-01-P